DEPARTMENT OF ENERGY

Federal Energy Regulatory Commission

Combined Notice of Filings #1

July 16, 2009.

Take notice that the Commission received the following electric rate filings:

Docket Numbers: ER99-2369-006.

Applicants: Alliance for Cooperative Energy Services.

Description: Amendment to May 4, 2009 Notice of Non-Material Change in Status of Alliance for Cooperative Energy Services Power Marketing LLC.

Filed Date: 07/15/2009.

Accession Number: 20090715-5149.

Comment Date: 5 p.m. Eastern Time on Wednesday, August 05, 2009.

Docket Numbers: ER99-2948-017; ER00-2918-016; ER00-2917-016; ER05-261-009; ER01-556-015; ER01-1654-018; ER02-2567-016; ER05-728-009; ER04-485-013; ER07-247-008; ER07-245-008; ER07-244-008.

Applicants: Baltimore Gas and Electric Company, Constellation Power Source Generation LLC, Calvert Cliffs Nuclear Power Plant, Inc., Constellation Energy Commodities Group, Inc., Handsome Lake Energy, LLC, Nine Mile Point Nuclear Station, LLC, Nine Mile Point Nuclear Station LLC, Constellation NewEnergy, Inc., Constellation Energy Commodities Group Maine, R.E. Ginna Nuclear Power Plant, LLC, Raven One, LLC, Raven Two, LLC, Raven Three, LLC.

Description: Baltimore Gas and Electric Company et al. submit Substitute Third Revised Sheet 2 et al. to FERC Electric Tariff, Original Volume 1 under ER99-2948 et al.

Filed Date: 07/13/2009.

Accession Number: 20090715-0093.

Comment Date: 5 p.m. Eastern Time on Monday, August 03, 2009.

Docket Numbers: ER04-925-021.

Applicants: Merrill Lynch Commodities, Inc.

Description: Notification of Non-Material Change in Status.

Filed Date: 07/15/2009.

Accession Number: 20090715-5105.

Comment Date: 5 p.m. Eastern Time on Wednesday, August 05, 2009.

Docket Numbers: ER09-553-001.

Applicants: Vista Energy Marketing, LP.

Description: Vista Energy Marketing, LP supplements its 1/26/09 application for market based rate authority and its 4/10/09 amendment filing pursuant to FERC's 6/9/09 Order.

Filed Date: 07/09/2009.

Accession Number: 20090714-0071.

Comment Date: 5 p.m. Eastern Time on Thursday, July 30, 2009.

Docket Numbers: ER09-873-001.

Applicants: ISO New England, Inc.

Description: ISO New England, Inc. submits Compliance filing providing information required by FERC's June 11, 2009 Order, for acceptance.

Filed Date: 07/13/2009.

Accession Number: 20090714-0088.

Comment Date: 5 p.m. Eastern Time on Monday, August 03, 2009.

Docket Numbers: ER09-991-001.

Applicants: Midwest Independent Transmission System Operator, Inc.

Description: Midwest Independent Transmission System Operator, Inc. submits its proposal for a transition program for Emergency Demand Response Day-Ahead Offers to comply with FERC's June 12, 2009 Order.

Filed Date: 07/13/2009.

Accession Number: 20090714-0089.

Comment Date: 5 p.m. Eastern Time on Monday, August 03, 2009.

Take notice that the Commission received the following electric securities filings:

Docket Numbers: ES09-32-001.

Applicants: System Energy Resources, Inc.

Description: Supplemental Information of System Energy Resources, Inc.

Filed Date: 07/15/2009.

Accession Number: 20090715-5144.

Comment Date: 5 p.m. Eastern Time on Monday, July 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-17625 Filed 7-23-09; 8:45 am]

BILLING CODE 6717-01-P